DEPARTMENT OF HOMELAND SECURITY

Coast Guard

33 CFR Part 117

[Docket No. USCG-2013-0153]

Drawbridge Operation Regulations; Willamette River, Portland, OR

AGENCY: Coast Guard, DHS.

ACTION: Notice of deviation from drawbridge regulation.

SUMMARY: The Coast Guard has issued a temporary deviation from the operating schedule that governs the Steel Bridge across the Willamette River, miles 12.1, at Portland, Oregon. This deviation is necessary to accommodate the Rose Parade, and Starlight Parade events. This deviation allows the bridge upper deck to remain in the closed position to allow safe movement of event participants.

DATES: This deviation is effective from 7 p.m. June 1, 2013, until 1 p.m. June 8, 2013.

ADDRESSES: The docket for this deviation, [USCG-2013-0153] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Randall Overton, Bridge Administrator, Coast Guard Thirteenth District; telephone 206-220-7282, email Randall.D.Overton@uscg.mil. If you have questions on viewing the docket, call Barbara Hairston, Program Manager, Docket Operations, telephone 202-366-9826.

SUPPLEMENTARY INFORMATION: TriMet of Portland has requested that the upper deck of the Steel Bridge remain closed to vessel traffic to facilitate safe efficient movement of light rail and roadway traffic associated with the Starlight Parade and Rose Parade. The Steel Bridge crosses the Willamette River at mile 12.1 and is a double-deck lift bridge with a lower lift deck and an upper lift deck which operate independent of each other. When both decks are in the down position the bridge provides 26 feet of vertical clearance above Columbia River Datum 0.0. When the lower deck is in the up position the bridge provides 71 feet of vertical clearance above Columbia River Datum 0.0. This deviation does not affect the operating schedule of the lower deck which opens on signal. Vessels that do not require an opening of the upper deck of the bridge may continue to transit beneath the bridge and, if needed, may obtaining an opening of the lower deck of the bridge for passage during this closure period of the upper deck. Under normal conditions the upper deck of the Steel Bridge operates in accordance with 33 CFR 117.897(c)(3)(ii), which states that from 8 a.m. to 5 p.m. Monday through Friday one hour advance notice shall be given for draw openings and at all other times two hours advance notice shall be given to obtain an opening. This deviation period is effective from 7 p.m. on June 1, 2013, until 1 p.m. on June 8, 2013. The deviation allows the Steel Bridge upper deck to remain in the closed position and need not open for maritime traffic from 7 p.m. until 11:30 p.m. on June 1, 2013, and from 7 a.m. until 1 p.m. on June 8, 2013. The bridge shall operate in accordance with 33 CFR 117.897 at all other times. Waterway usage on this stretch of the Willamette River includes vessels ranging from commercial tug and barge to small pleasure craft. Mariners will be notified and kept informed of the bridges' operational status via the Coast Guard Notice to Mariners publication and Broadcast Notice to Mariners as appropriate. The bridge will be required to open, if needed, for vessels engaged in emergency response operations during this closure period.

In accordance with 33 CFR 117.35(e), the drawbridge must return to its regular operating schedule immediately at the end of the effective period of this temporary deviation. This deviation from the operating regulations is authorized under 33 CFR 117.35.

Dated: March 14, 2013.
Randall D. Overton,
Bridge Administrator, Thirteenth Coast Guard District.

[FR Doc. 2013-06989 Filed 3-26-13; 8:45 am]

BILLING CODE 9110-04-P